FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted December 20, 2010 Thru December 31, 2010
ET date | Trans. No. | ET req status | Party name
12/20/2010 | 20110142 | G | McKesson Corporation; Welsh, Carson, Anderson & Stowe IX, L.P.; McKesson Corporation.
| 20110293 | G | Boston Scientific Corporation; Sadra Medical, Inc.; Boston Scientific Corporation.
| 20110297 | G | The NASDAQ OMX Group, Inc.; Val E. Vaden; The NASDAO OMX Group, Inc.
| 20110357 | G | Oak Hill Capital Partners II, L.P.; Vantage Oncology, Inc.; Oak Hill Capital Partners II, LP.
| 20110358 | G | Vantage Oncology, Inc.; Oak Hill Capital Partners II, L.P.; Vantage Oncology, Inc.
| 20110372 | G | Ebro Foods S.A.; Ricegrowers Limited; Ebro Foods S.A.
| 20110378 | G | Brightpoint, Inc.; The Richard Arnesen Graham Family Descendants' Trust; Brightpoint, Inc.
| 20110379 | G | Aetna, Inc.; Medicity, Inc.; Aetna, Inc.
| 20110384 | G | Illinois Tool Works Inc.; Royal Dutch Shell plc; Illinois Tool Works Inc.
12/21/2010 | 20110377 | G | Helen of Troy Limited; Kaz, Inc.; Helen of Troy Limited.
12/23/2010 | 20110304 | G | Roche Holding Ltd.; Marcadia Biotech, Inc.; Roche Holding Ltd.
12/27/2010 | 20110318 | G | STG III, LP; CoreLogic, Inc.; STG III, LP.
| 20110391 | G | H.I.G. Bayside Debt & LBO Fund II, L.P.; Matrixx Initiatives, Inc.; H.I.G. Bayside Debt & LBO Fund II, L.P.
| 20110393 | G | Prestige Brands Holdings, Inc.; Johnson & Johnson; Prestige Brands Holdings, Inc.
| 20110395 | G | PBF Energy Company LLC; Sunoco, Inc.; PBF Energy Company LLC.
| 20110396 | G | TPG VI DE AIV II, L.P.; Ashland Inc.; TPG VI DE AIV II, L.P.
| 20110398 | G | Exxon Mobil Corporation; Petrohawk Energy Corporation; Exxon Mobil Corporation.
| 20110399 | G | Lennox International Inc.; The Manitowoc Company, Inc.; Lennox International Inc.
| 20110406 | G | Carl C. Icahn; Dynegy Inc.; Carl C. Icahn.
| 20110407 | G | China Huaneng Group; Inter Gen N.V.; China Huaneng Group.
| 20110408 | G | Grupo Empresarial Kaluz, S.A. de C.V.; Rockwood Holdings, Inc.; Grupo Empresarial Kaluz, S.A. de C.V.
12/28/2010 | 20100854 | G | Keystone Holdings, LLC; Compagnie de Saint-Gobain; Keystone Holdings, LLC.
| 20110394 | G | Aceto Corporation; Ronald Gold; Aceto Corporation.
12/29/2010 | 20110402 | G | M & F Worldwide Corp.; Knowledge Universe Limited LLC; M & F Worldwide Corp.
12/30/2010 | 20110385 | G | Fairfax Financial Holdings Limited; AbitibiBowater Inc.; Fairfax Financial Holdings Limited.

For Further Information Contact: Sandra M. Peay, Contact Representative, or Renee Chapman, Contact Representative, Federal Trade Commission, Premerger Notification Office, Bureau of Competition, Room H-303, Washington, DC 20580, (202) 326-3100.

By direction of the Commission.
Donald S. Clark,
Secretary.

[FR Doc. 2011-3174 Filed 2-14-11; 8:45 am]

BILLING CODE 6750-01-M